DEPARTMENT OF COMMERCE

National Oceanic and Atmospheric Administration

[RTID 0648-XA990]

Fisheries of the South Atlantic; South Atlantic Fishery Management Council; Public Meeting

AGENCY: National Marine Fisheries Service (NMFS), National Oceanic and Atmospheric Administration (NOAA), Commerce.

ACTION: Notice.

SUMMARY: The South Atlantic Fishery Management Council (Council) will hold a meeting of its Scientific and Statistical Committee (SSC) via webinar. See SUPPLEMENTARY INFORMATION.

DATES: The SSC meeting will take place from 9 a.m. to 5 p.m. daily, from Tuesday, April 27, 2021 through Thursday, April 29, 2021 and Monday, May 3, 2021.

ADDRESSES: The meeting will be held via webinar.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION:

The meeting is open to the public via webinar as it occurs. Webinar registration is required. Information regarding webinar registration will be posted to the Council's website at: http://safmc.net/safmc-meetings/scientific-and-statistical-committee-meetings/ as it becomes available. The meeting agenda, briefing book materials, and online comment form will be posted to the Council's website two weeks prior to the meeting. Written comment on SSC agenda topics is to be distributed to the Committee through the Council office, similar to all other briefing materials. For this meeting, the deadline for submission of written comment is 5 p.m. April 26, 2021.

Agenda Items

The SSC will review the SEDAR (Southeast Data Assessment and Review) 73 Red Snapper stock assessment; SEDAR 66 Tilefish stock assessment; SEDAR 71 Gag stock assessment; and aspects of the Council's Acceptable Biological Catch (ABC) Control Rule. SSC members will also review the Council's Research and Monitoring Plan; Amendment 10 to the Dolphin Wahoo Fishery Management Plan; and a report from the Council's SSC Socioeconomic Panel. The SSC will review the use of the Council's Decision Tree approach to sector allocations, receive an update on the Council Coordination Committee (CCC) Scientific Coordination Subcommittee Meeting, recommend SSC reviewers for the SEDAR 68 Scamp stock assessment and address other topics as needed.

The SSC will provide guidance to staff and make recommendations for Council consideration as appropriate.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: April 8, 2021.
Tracey L. Thompson,
Acting Deputy Director, Office of Sustainable Fisheries, National Marine Fisheries Service.

[FR Doc. 2021-07530 Filed 4-12-21; 8:45 am]

BILLING CODE 3510-22-P